DEPARTMENT OF THE INTERIOR

[Docket No. DOI-2020-0001; 201D0102DM, DS6CS00000, DLSN00000.000000, DX6CS25]

Implementation of Executive Order 13891: Guidance Documents

AGENCY: Office of the Secretary, Interior.

ACTION: Notice of availability.

SUMMARY: We, the Department of the Interior (DOI), announce the availability of a single, searchable, indexed website that contains all of DOI's guidance documents. This action is required by the Executive Order (E.O.) titled, “Promoting the Rule of Law Through Improved Agency Guidance Documents” in order to make guidance documents readily available to the public. This website is found at the Electronic Library of the Interior's Policies (ELIPS) at www.doi.gov/elips/browse.

DATES: This website is available on February 28, 2020.

ADDRESSES: The notice is available for public inspection at http://www.regulations.gov in Docket No. DOI-2020-0001.

FOR FURTHER INFORMATION CONTACT: Bivan Patnaik, Deputy Director of Regulatory Affairs, Office of the Executive Secretariat and Regulatory Affairs, by phone at 202-208-3181 or via the Federal Relay Service at 800-877-8339, or via email at: guidance_document@ios.doi.gov].

SUPPLEMENTARY INFORMATION:

Background Information

A central principle of E.O. 13891 is that guidance should only clarify existing obligations and should not implement new, binding requirements on the public. Guidance is defined in the E.O. as “an agency statement of general applicability, intended to have future effect on the behavior of regulated parties, that sets forth a policy on statutory, regulatory, or technical issue, or an interpretation of a statute or regulation.” Therefore, DOI is establishing on its website a single, searchable, indexed database that links to all guidance documents in effect from each bureau and office within the Department.

The purpose of this notice is to announce that DOI's website for agency guidance documents subject to posting on the website under the E.O. will be the Electronic Library of the Interior Policies (ELIPS), https://www.doi.gov/elips/browse. When the public enters this website, click the Departmental Guidance Documents and Portals folder, which will expand to provide a “drop-down” list of the bureaus and offices within DOI that have issued guidance documents for use by the public. From this list, the public will be able to click on the specific bureau or office, and will further be able to search for a specific document by using such search parameters as title, subject, region, etc. The website will contain instructions for searching for guidance documents.

The website will contain all Departmental, bureau, service, or office guidance documents. Each guidance document that DOI publishes on its guidance website will include the following information:

A concise name for the guidance document.

The date on which the guidance document was issued.

The date on which the guidance document was posted to the website.

An agency unique identifier.

A hyperlink to the guidance document.

The general topic addressed by the guidance document.

One or two sentences summarizing the guidance document's content.

In addition to the information associated with each guidance document, the website will include a clearly visible note stating that: (1) Guidance documents lack the force and effect of law, unless expressly authorized by statute or incorporated into a contract; and (2) the DOI and its component bureaus and offices may not cite, use, or rely on any guidance that is not posted on the website existing under the E.O., except to establish historical facts.

Next Steps

E.O. 13891 also requires agencies to finalize new or amend existing regulations that set forth a process for issuing guidance documents, which DOI is currently preparing.

Authority

DOI publishes this notice in accordance with E.O. 13891 and the Administrative Procedure Act, codified in sections of chapters 5 and 7 of title 5, United States Code, that govern procedures for agency rulemaking and adjudication and provides for judicial review of final agency actions.

Richard T. Cardinale,
Director, Office of the Executive Secretariat and Regulatory Affairs, U.S. Department of the Interior.

[FR Doc. 2020-04097 Filed 2-27-20; 8:45 am]

BILLING CODE 4334-63-P